DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Safe Schools/Healthy Students (SS/HS) Initiative National Evaluation (OMB No. 0930-0297)—Revision

SAMHSA's Center for Mental Health Services (CMHS) will conduct a study to evaluate the relationships between different grantee characteristics and implementation strategies to outcomes at the project, school, and student level. Data collected by this study will facilitate an examination of contextual factors and inform those who hope to improve the effectiveness of partnerships and implementation efforts under the grant and lead to improved outcomes for communities, schools, and students. The three agencies sponsoring the SS/HS Initiative (the U.S. Department of Health and Human Services, the U.S. Department of Education, and the U.S. Department of Justice) may also choose to incorporate aggregate results from collected data in journal articles, scholarly presentations, and congressional testimony referring to the outcomes of the SS/HS grant program.

Data collection activities involve the administration of four separate surveys (a Baseline Assessment Survey, a Project-Level Survey, a School-Level Survey, and a Staff School Climate Survey) and a Site Visit Protocol for individuals involved with the SS/HS Initiative at the local grantee level. Respondents will submit their responses for all surveys via Qualtrics, a third-party, online Web-based survey platform, except for the Site Visit Protocol, which will be administered on site with grantees.

The estimated burden for data collection is 5,732 hours across a total of 28,125 participants. Using median hourly wage estimates reported by the Bureau of Labor Statistics, May 2009 National Occupational Employment and Wage Estimates, and a loading rate of 25%, the estimated total cost to respondents is $207,343. A breakdown of these estimates is presented in the following table:

Elements of Annualized Hour-Cost Burden of Data Collection *
Instrument description | Anticipated number of respondents | Responses per respondent | Average hours per response | Total annual hour burden
Site Visit Protocol | 100 | 1 | 9 | 900
Baseline Assessment Survey | 25 | 1 | .67 | 17
Partnership Inventory | 400 | 1 | 0.25 | 100
Project-Level Survey | 100 | 1 | 0.42 | 42
School-Level Survey | 2,300 | 1 | 0.45 | 1,725
Staff School Climate Survey | 25,200 | 1 | 0.117 | 2,948
Total | 28,125 |  |  | 5,732
* Number of respondents based on an estimated annual average of 100 grantees. Baseline Assessment Survey administered only to grantees in the 2011-2013 cohorts. School-Level Survey estimates based on an average of 23 schools per grant. Staff School Climate Survey estimates based on 252 respondents per grantee. Average hours per response based on previous evaluation and pilot tests.

Send comments to Summer King, SAMHSA Reports Clearance Officer, Room 8-1099, One Choke Cherry Road, Rockville, MD 20857 or e-mail a copy to summer.king@samhsa.hhs.gov. Written comments must be received on or before July 15, 2011.

Dated: May 10, 2011.
Elaine Parry,
Director, Office of Management, Technology and Operations.

[FR Doc. 2011-11896 Filed 5-13-11; 8:45 am]

BILLING CODE 4162-20-P